DEPARTMENT OF THE INTERIOR

Bureau of Safety and Environmental Enforcement

[EEEE500000 256E1700D2 ET1SF0000.EAQ000]

Notice of Proposed Transfer of Pipelines

AGENCY: Bureau of Safety and Environmental Enforcement, Interior.

ACTION: Notice of Intent to Transfer Pipeline Ownership and Request for Submissions of Competing Interest.

SUMMARY: The Bureau of Safety and Environmental Enforcement (BSEE) is considering whether to authorize the transfer of ownership of certain pipelines in the Gulf of America (GOA).

DATES: Submissions of competing interest are due by July 30, 2025.

ADDRESSES: GOA Regional Supervisor, Regional Field Operations, Bureau of Safety and Environmental Enforcement, 1201 Elmwood Park Blvd., New Orleans, LA 70123-2394. You may also file submissions of competing interest electronically using a subject reference “Submission of Competing Interest—Pipelines” at pipelines@bsee.gov.

FOR FURTHER INFORMATION CONTACT: Otho Barnes, Bureau of Safety and Environmental Enforcement, Regional Supervisor, at (504) 736-5776, or by email to: otho.barnes@bsee.gov.

SUPPLEMENTARY INFORMATION:

Background: BSEE received a written request to acquire a certain pipeline segment in the GOA located on a right-of-way (ROW) that has been relinquished pursuant to 30 CFR 250.1019. The associated pipeline segment was relinquished by the ROW holder on August 13, 2022. The party requesting to acquire the pipeline is a prior ROW holder for the segment.

BSEE has determined that, pursuant to 30 CFR 250.1010(h), the Outer Continental Shelf (OCS) pipeline and any related infrastructure are the property of the United States and may be transferred to private parties. BSEE received the request from a private party seeking to acquire the pipeline segment from the United States, as set forth in the table below:

Pipeline Segment With Pending Application for Acquisition
Previous ROW holder | Previous PSN | Previous ROW | ROW relinquishment date
Arena Offshore, LP | 11501 | ROW OCS-G 18811 | 08/13/2022

Purpose: The Department of the Interior has determined that the pipeline segment is subject to disposition pursuant to 40 U.S.C. 701 and the General Services Administration Federal Management Regulations at 41 CFR part 102-36. BSEE is providing notice that, until July 30, 2025, it will accept submissions of competing interest for acquisition of the pipeline segment. Depending on the level of interest, BSEE will complete a transfer of ownership of the pipeline to a private party through an appropriate transfer process.

In addition to transferring the pipeline interest, a new ROW will still be required pursuant to 30 CFR part 250, subpart J prior to any use of the pipeline. The transfer of pipeline ownership from the United States to another party will make that party responsible for the pipeline, including future operations, maintenance, and all decommissioning obligations.

Purpose of a Notice of Intent (NOI)

This NOI serves to inform interested parties of BSEE's intent to transfer ownership of the pipeline that is located in the previously described relinquished ROW on the OCS, and to describe BSEE's process for accepting submissions of competing interest.

BSEE will evaluate and respond to all submissions received pursuant to this NOI. If BSEE receives future requests to reuse other pipelines, it will issue similar NOIs to notify the public and to solicit statements of competing interest.

Instructions for the NOI

Parties interested in acquiring the aforementioned pipeline should submit the information outlined in the Purpose section above to the GOA Regional Supervisor for Regional Field Operations as provided in the ADDRESSES section no later than July 30, 2025.

Kenneth C. Stevens,
Principal Deputy Director Exercising the Delegated Authorities of the Director Bureau of Safety and Environmental Enforcement.

[FR Doc. 2025-12018 Filed 6-27-25; 8:45 am]

BILLING CODE 4310-VH-P